DEPARTMENT OF ENERGY

Federal Energy Regulatory Commission

Combined Notice of Filings #1

Take notice that the Commission received the following exempt wholesale generator filings:

Docket Numbers: EG20-217-000.

Applicants: American Kings Solar, LLC.

Description: Notice of Self-Certification of Exempt Wholesale Generator Status of American Kings Solar, LLC.

Filed Date: 7/22/20.

Accession Number: 20200722-5025.

Comments Due: 5 p.m. ET 8/12/20.

Docket Numbers: EG20-218-000.

Applicants: Rancho Seco Solar II LLC.

Description: Notice of Self-Certification of Exempt Wholesale Generator Status of Rancho Seco Solar II LLC.

Filed Date: 7/22/20.

Accession Number: 20200722-5054.

Comments Due: 5 p.m. ET 8/12/20.

Take notice that the Commission received the following electric rate filings:

Docket Numbers: ER20-1783-001.

Applicants: PJM Interconnection, L.L.C.

Description: Tariff Amendment: Deficiency Response for Revisions to PJM Tariff for NEET MidAtlantic Indiana to be effective 12/31/9998.

Filed Date: 7/22/20.

Accession Number: 20200722-5028.

Comments Due: 5 p.m. ET 8/12/20.

Docket Numbers: ER20-2065-000; ER20-2066-000.

Applicants: Antelope Expansion 3A, LLC, Antelope Expansion 3B, LLC.

Description: Joint Supplement to June 16, 2020 Antelope Expansion 3A, LLC, et al. tariff filings, et al.

Filed Date: 7/15/20.

Accession Number: 20200715-5173.

Comments Due: 5 p.m. ET 7/27/20.

Docket Numbers: ER20-2286-001.

Applicants: Southwest Power Pool, Inc.

Description: Tariff Amendment: 2236R12 Golden Spread Electric Cooperative, Inc. NITSA NOA Amended to be effective 6/1/2020.

Filed Date: 7/22/20.

Accession Number: 20200722-5032.

Comments Due: 5 p.m. ET 8/12/20.

Docket Numbers: ER20-2465-000.

Applicants: Alcoa Power Generating Inc.

Description: Tariff Cancellation: Cancellation of APGI Transmission Service Agreements to be effective 9/20/2020.

Filed Date: 7/21/20.

Accession Number: 20200721-5132.

Comments Due: 5 p.m. ET 8/11/20.

Docket Numbers: ER20-2466-000.

Applicants: Alcoa Power Generating Inc.

Description: § 205(d) Rate Filing: Executed, Bilateral Transmission Service Agreements for Native Load Customers to be effective 9/20/2020.

Filed Date: 7/21/20.

Accession Number: 20200721-5133.

Comments Due: 5 p.m. ET 8/11/20.

Docket Numbers: ER20-2467-000.

Applicants: Alcoa Power Generating Inc.

Description: § 205(d) Rate Filing: Executed, Bilateral Transmission Service Agreements for Native Load Customers to be effective 9/20/2020.

Filed Date: 7/21/20.

Accession Number: 20200721-5135.

Comments Due: 5 p.m. ET 8/11/20.

Docket Numbers: ER20-2468-000.

Applicants: Alcoa Power Generating Inc.

Description: § 205(d) Rate Filing: Executed, Bilateral Transmission Service Agreements for Native Load Customers to be effective 9/20/2020.

Filed Date: 7/21/20.

Accession Number: 20200721-5127.

Comments Due: 5 p.m. ET 8/11/20.

Docket Numbers: ER20-2469-000.

Applicants: Mid-Atlantic Interstate Transmission, LLC, PJM Interconnection, L.L.C.

Description: § 205(d) Rate Filing: MAIT submits ECSA No. 5647 to be effective 9/20/2020.

Filed Date: 7/21/20.

Accession Number: 20200721-5136.

Comments Due: 5 p.m. ET 8/11/20.

Docket Numbers: ER20-2470-000.

Applicants: Carroll County Energy LLC.

Description: § 205(d) Rate Filing: Market-Based Rate Tariff Revisions to be effective 7/23/2020.

Filed Date: 7/22/20.

Accession Number: 20200722-5037.

Comments Due: 5 p.m. ET 8/12/20.

Docket Numbers: ER20-2471-000.

Applicants: NedPower Mount Storm, LLC.

Description: Baseline eTariff Filing: Reactive Power Compensation Filing to be effective 9/20/2020.

Filed Date: 7/22/20.

Accession Number: 20200722-5039.

Comments Due: 5 p.m. ET 8/12/20.

Docket Numbers: ER20-2472-000.

Applicants: Rancho Seco Solar II LLC.

Description: Baseline eTariff Filing: Application for Market-Based Rate Authority to be effective 9/21/2020.

Filed Date: 7/22/20.

Accession Number: 20200722-5046.

Comments Due: 5 p.m. ET 8/12/20.

Docket Numbers: ER20-2473-000.

Applicants: Tri-State Generation and Transmission As.

Description: Tariff Cancellation: Request for Administrative Cancellation of eTariff Database to be effective 7/23/2020.

Filed Date: 7/22/20.

Accession Number: 20200722-5055.

Comments Due: 5 p.m. ET 8/12/20.

Docket Numbers: ER20-2474-000.

Applicants: PJM Interconnection, L.L.C.

Description: § 205(d) Rate Filing: Amendment to WMPA, SA No. 4841; Queue No. AC2-136 (consent) to be effective 10/25/2017.

Filed Date: 7/22/20.

Accession Number: 20200722-5058.

Comments Due: 5 p.m. ET 8/12/20.

Docket Numbers: ER20-2475-000.

Applicants: Interstate Power and Light Company.

Description: § 205(d) Rate Filing: IPL-NSP Freeborn LBA Agreement to be effective 9/21/2020.

Filed Date: 7/22/20.

Accession Number: 20200722-5073.

Comments Due: 5 p.m. ET 8/12/20.

Docket Numbers: ER20-2476-000.

Applicants: Arizona Public Service Company.

Description: § 205(d) Rate Filing: Service Agreement No. 381—sPower E&P Agreement to be effective 7/9/2020.

Filed Date: 7/22/20.

Accession Number: 20200722-5083.

Comments Due: 5 p.m. ET 8/12/20.

Docket Numbers: ER20-2477-000.

Applicants: Arizona Public Service Company.

Description: § 205(d) Rate Filing: Service Agreement No. 376, Amendment No. 1 to be effective 6/24/2020.

Filed Date: 7/22/20.

Accession Number: 20200722-5084.

Comments Due: 5 p.m. ET 8/12/20.

Docket Numbers: ER20-2478-000.

Applicants: Arizona Public Service Company.

Description: § 205(d) Rate Filing: Revisions to Service Agreement Nos. 218 and 335 (Mead) to be effective 7/1/2020.

Filed Date: 7/22/20.

Accession Number: 20200722-5091.

Comments Due: 5 p.m. ET 8/12/20.

Docket Numbers: ER20-2479-000.

Applicants: Arizona Public Service Company.

Description: § 205(d) Rate Filing: Service Agreement No. 382 to be effective 7/8/2020.

Filed Date: 7/22/20.

Accession Number: 20200722-5096.

Comments Due: 5 p.m. ET 8/12/20.

Docket Numbers: ER20-2480-000.

Applicants: Arizona Public Service Company.

Description: Tariff Cancellation: Service Agreement No. 373, Cancellation to be effective 9/21/2020.

Filed Date: 7/22/20.

Accession Number: 20200722-5099.

Comments Due: 5 p.m. ET 8/12/20.

Docket Numbers: ER20-2481-000.

Applicants: Mid-Atlantic Interstate Transmission, LLC, PJM Interconnection, L.L.C.

Description: § 205(d) Rate Filing: Mid-Atlantic Interstate Transmision submits Revised IA SA No. 4577 to be effective 9/21/2020.

Filed Date: 7/22/20.

Accession Number: 20200722-5101.

Comments Due: 5 p.m. ET 8/12/20.

Docket Numbers: ER20-2482-000.

Applicants: PJM Interconnection, L.L.C.

Description: § 205(d) Rate Filing: Original ISA, SA No. 5684; Queue No. AF1-180 to be effective 6/29/2020.

Filed Date: 7/22/20.

Accession Number: 20200722-5113.

Comments Due: 5 p.m. ET 8/12/20.

Docket Numbers: ER20-2483-000.

Applicants: PJM Interconnection, L.L.C.

Description: § 205(d) Rate Filing: Amendment to ISA, Service Agreement No. 4623; Queue Nos. AC1-152/AC1-172 to be effective 5/10/2018.

Filed Date: 7/22/20.

Accession Number: 20200722-5114.

Comments Due: 5 p.m. ET 8/12/20.

Docket Numbers: ER20-2484-000.

Applicants: Tri-State Generation and Transmission Association, Inc.

Description: § 205(d) Rate Filing: Administrative Clean-up Tariff Revision to be effective 5/7/2020.

Filed Date: 7/22/20.

Accession Number: 20200722-5123.

Comments Due: 5 p.m. ET 8/12/20.

Take notice that the Commission received the following electric reliability filings:

Docket Numbers: RR20-3-000.

Applicants: North American Electric Reliability Corporation.

Description: Supplement to May 29, 2020 North American Electric Reliability Corporation's Report of Comparison of Budgeted to Actual Costs for 2019 for NERC and the Regional Entities.

Filed Date: 7/21/20.

Accession Number: 20200721-5164.

Comments Due: 5 p.m. ET 8/11/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 22, 2020.
Nathaniel J. Davis, Sr.,
Deputy Secretary.

[FR Doc. 2020-16304 Filed 7-27-20; 8:45 am]

BILLING CODE 6717-01-P